DEPARTMENT OF TRANSPORTATION

Pipeline and Hazardous Materials Safety Administration Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before (30 days after publication).

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http.//dms.dot.gov.

Issued in Washington, DC, on October 13, 2005.
R. Ryan Posten,
Chief, Special Permits Program, Office of Hazardous Materials Safety Special Permits & Approvals.

New Exemption
Application No. | Docket No. | Applicant | Regulation(s) affected | Nature of exemption thereof
14247-N | PHMSA-22603 | Great Lakes Chemicals Corporation, West Lafayette, IN | 49 CFR 178.605 | To authorize the transporation in commerce of certain hazardous materials in DOT Specification 51 portable tanks that are overdue for periodic inspection. (mode 1)
14249-N | PHMSA-22604 | Remington Arms Company, Inc., Lonoke, AR | 49 CFR 173.62 | To authorize the transportation in commerce of cartridges, small arms in a 20-cubic yard bulk box. (mode 1)
14251-N | PHMSA-22605 | Matheson Tri-Gas, Parsippany, NJ | 49 CFR 172.400a, 172.301(c) | To authorize the transportation in commerce of overpacked cylinders containing Class 2 materials with a CGA C-7 neckring labels. (modes 1, 2, 3, 4, 5)
14252-N | PHMSA-22606 | Hobo Incorporated, Lakeville, MN | 49 CFR 173.28 | To authorize the transportation in commerce of certain UN certified plastic drums containing soap products which are reused without leakproof testing. (mode 1)
14253-N | PHMSA-22607 | Matheson Tri-Gas, East Rutherford, NJ | 49 CFR 173.302a | To authorize the one-time shipment of a DOT 3AA cylinder containing hydrogen sulfide further packed in a non-DOT specification salvage cylinder. (mode 1)
14254-N | PHMSA-22608 | Pharmaceuti­cal Research and Manufacturers of America, Washington, DC | 49 CFR 173.307 (a)(5) | To authorize the transportation in commerce of aerosols with a capacity of 50 ml or less containing Division 2.2 material and no other hazardous materials to be transported without certain hazard communication requirements. (modes 1, 2, 3, 4, 5)
14255-N | PHMSA-22609 | BP Amoco Chemical Company, Pasadena, TX | 49 CFR 173.240 | To authorize the one-way transportation in commerce of certain non-DOT specification pressure vessels containing a Class 3 flammable liquid residue. (mode 1)
14245-N | PHMSA-22610 | David E. Bradshaw, Decatur, IL | 49 CFR 171.8 Design Certifying Engineer | To authorize an alternative qualification requirement for meeting the Design Certifying Engineer criteria 49 CFR 171.8. (mode 1)
14257-N |  | Origin Energy American Samoa, Inc., Pago Pago, AS | 49 CFR 173.304a | To authorize the transportation in commerce of certain non-DOT specification cylinders containing butane. (mode 1)
14262-N |  | GATX Rail, Chicago, IL | 49 CFR 713.31 | To authorize the transportation in commerce of certain rail cars containing carbon dioxide with a tank head thickness slightly below the minimum required. (mode 2)
14263-N |  | U.S. Department of Energy (DOE), Washington, DC | 49 CFR 178.356 | To authorize the manufacture, marking and sale of DOT Specification 20PF-1, 20PF-2 and 20PF-3 overpacks manufactured in variance with the specification in 49 CFR 178.356, and for their transport when containing uranium hexafluroride, fissile in Type A packagings. (modes 1, 2, 3, 4)
14264-N | PHMSA-22711 | U.S. Department of Energy (DOE), Washington, DC | 49 CFR 173.417, 173.420 | To authorize the transportation in commerce of 48-inch fissile assay uranium hexafluoride heel cylinders in an overpack. (modes 1, 2, 3, 4)

[FR Doc. 05-21005 Filed 10-19-05; 8:45 am]

BILLING CODE 4909-60-M